SECURITIES AND EXCHANGE COMMISSION

[File No. 500-1]

In the Matter of MIT Holding, Inc.; Order of Suspension of Trading

June 15, 2016

It appears to the Securities and Exchange Commission (“Commission”) that there is a lack of current and accurate information concerning the securities of MIT Holding, Inc. (“MITD ¹”) (CIK No. 1367416), a delinquent Delaware corporation located in Los Angeles, California with a class of securities registered with the Commission pursuant to Securities Exchange Act of 1934 (“Exchange Act”) Section 12(g) because it is delinquent in its periodic filings with the Commission, having not filed any periodic reports since it filed a Form 10-Q for the period ended September 30, 2015. Moreover, MITD's Form 10-K for the period ended December 31, 2014 failed to comply with Exchange Act and regulations thereunder because it did not include audited financial statements. Also, the financial statements accompanying MITD's Forms 10-Q for the periods ending March 31, June 30, and September 30, 2015 were not reviewed by an auditor as required by Commission rules. On January 19, 2016, the Commission's Division of Corporation Finance (“Corporation Finance”) sent a delinquency letter to MITD requesting compliance with its periodic filing requirements which was delivered. As of June 8, 2016, the common stock of MITD was quoted on OTC Link operated by OTC Markets Group Inc. (formerly “Pink Sheets”), had eight market makers, and was eligible for the “piggyback” exception of Exchange Act Rule 15c2-11(f)(3).

¹ The short form of the issuer's name is also its stock symbol.

The Commission is of the opinion that the public interest and the protection of investors require a suspension of trading in the securities of the above-listed company. Therefore, it is ordered, pursuant to Section 12(k) of the Securities Exchange Act of 1934, that trading in the securities of the above-listed company is suspended for the period from 9:30 a.m. EDT on June 15, 2016, through 11:59 p.m. EDT on June 28, 2016.

By the Commission.
Jill M. Peterson,
Assistant Secretary.

[FR Doc. 2016-14477 Filed 6-15-16; 4:15 pm]

BILLING CODE 8011-01-P